DEPARTMENT OF HEALTH AND HUMAN SERVICES

National Institutes of Health

National Institute of Diabetes and Digestive and Kidney Diseases; Amended Notice of Meeting

Notice is hereby given of a change in the meeting of the Board of Scientific Counselors, NIDDK, October 12, 2023, 10:00 a.m. to October 13, 2023, 05:00 p.m., National Institutes of Health, 10 Center Drive, Bethesda, MD 20892 which was published in the Federal Register on August 21, 2023, 88 FR 56846.

The following FRN is being amended to change the meeting format from virtual to in person. The meeting is partially Closed to the public.

Dated: September 30, 2024.
Miguelina Perez,
Program Analyst, Office of Federal Advisory Committee Policy.

[FR Doc. 2024-22890 Filed 10-3-24; 8:45 am]

BILLING CODE 4140-01-P